DEPARTMENT OF THE INTERIOR

National Park Service

[NPS-PWR-KAHO-17292; PPPWKAHOS0, PPMPSPD1Z.S00000

Notice of 2015 Meeting Schedule of the Na Hoa Pili O Kaloko-Honokohau Advisory Commission

AGENCY: National Park Service, Interior.

ACTION: Meeting notice.

SUMMARY: This notice sets forth the meeting dates of the Na Hoa Pili O Kaloko-Honokohau Advisory Commission occurring in 2015.

DATES: The public meetings of the Commission will be held on Fridays, as follows:

February 20, 2015 at 9:30 a.m. (HAWAII STANDARD TIME)

May 1, 2015 at 9:30 a.m. (HAWAII STANDARD TIME)

August 7, 2015 at 9:30 a.m. (HAWAII STANDARD TIME)

November 6, 2015 at 9:30 a.m. (HAWAII STANDARD TIME)

ADDRESSES: The February 20, 2015, and August 7, 2015, meetings will be held at the Kaloko-Honokohau National Historical Park Halau at the southern end of the park, located north of Honokohau Harbor with access through the Honokohau pedestrian entrance, and parking at Honokohau Harbor. The May 1, 2015, and November 7, 2015, meetings will be held at the Kaloko-Honokohau National Historical Park Kaloko Picnic Area. Kaloko-Honokohau National Historical Park is located in Kailua Kona, HI 96740.

Agenda: The Commission meetings will consist of the following:

1. Approval of Agenda

2. Chairman's Report

3. Superintendent's Report

4. Subcommittee Reports

5. Commission Recommendations

6. Public Comments

FOR FURTHER INFORMATION CONTACT: Jeff Zimpfer, Environmental Protection Specialist, Kaloko-Honokohau National Historical Park, 73-4786 Kanalani Street, #14, Kailua Kona, Hawaii 96740, at (808) 329-6881, ext. 1500, or email jeff_zimpfer@nps.gov.

SUPPLEMENTARY INFORMATION: The Kaloko-Honokohau National Historical Park was established by Section 505(a) of the Public Law 95-625, November 10, 1978, as amended. Section 505(f) of that law, as amended, established the Na Hoa Pili O Kaloko-Honokohau (The Friends of Kaloko-Honokohau), an advisory commission for the park. The Commission was re-established by Title VII, Subtitle E, Section 7401 of Public Law 111-11, the Omnibus Public Land Management Act of 2009. The Commission's new termination date is December 18, 2018. The Commission shall advise the Director, National Park Service, with respect to the historical, archeological, cultural, and interpretive programs of the park. The Commission shall afford particular emphasis to the quality of traditional native Hawaiian culture demonstrated in the park.

The meetings are open to the public. Interested persons may make oral/written presentations to the Commission or file written statements. Such requests should be made to the Superintendent at least seven days prior to the meetings. Before including your address, telephone number, email address, or other personal identifying information in your comment, you should be aware that your entire comment−including your personal identifying information−may be made publicly available at any time. While you may ask us in your comment to withhold your personal identifying information from public review, we cannot guarantee that we will be able to do so.

Dated: December 16, 2014.
Alma Ripps,
Chief, Office of Policy.

[FR Doc. 2014-29929 Filed 12-19-14; 8:45 am]

BILLING CODE 4310-EE-P